NATIONAL INSTITUTE FOR LITERACY

34 CFR Part 1100

Literacy Leader Fellowship Program

AGENCY: National Institute for Literacy.

ACTION: Final regulations.

SUMMARY: The Director amends the regulations governing the Literacy Leader Fellowship Program. Under this program, the Director may award fellowships to individuals to enable them to engage in research, education, training, technical assistance, or other activities that advance the field of adult education or literacy. These amendments make changes that improve the administration of the program.

DATES: These regulations take effect March 7, 2000.

FOR FURTHER INFORMATION CONTACT: Jennifer Cromley, Telephone No.: 202/233-2053, email jcromley@nifl.gov. Individuals who use a telecommunication device for the deaf (TDD) may call the Federal Information Relay Service (FIRS) at 1-800-877-8339 between 8 am and 8 pm, Eastern time, Monday through Friday.

SUPPLEMENTARY INFORMATION: The Director has made minor technical changes to the regulations, as well as minor changes in § 1100.5 (definition of literacy worker) to more clearly specify that only literacy workers with five or more years experience are eligible to apply for the Literacy Leader Fellowship Program. The Director has also amended the regulations to clarify that applicants proposing to conduct family literacy projects involving the adult components of family literacy are eligible to apply. These changes are reflected in §§ 1100.1, 1100.2, 1100.3, and 1100.5. Section 1100.5 includes a new definition of family literacy that incorporates the adult components of family literacy from the statute governing the Even Start Family Literacy Program. Sections 1100.1-1100.3 also clarify that all fellowship proposals must be related to adult or family literacy. The Director has increased the maximum size of the stipend available for the program (in § 1100.22) and instituted a requirement that fellows devote at least 60 percent of effort to the project (which may be waived at the Director's discretion) in § 1100.32. The Director has changed the residency requirements for the program, so that Fellows are encouraged, but no longer required, to spend a significant portion of their time at the Institute (§ 1100.30, with technical changes to § 1100.21(c)(2)), although Fellows are still required to make four visits to the Institute to attend quarterly meetings. In addition, the Director has added references to two applicable regulations (34 CFR 74.61 and 34 CFR 75.61) which were inadvertently omitted from the 1997 revisions.

Paperwork Reduction Act of 1995

Under the Paperwork Reduction Act of 1995, no persons are required to respond to a collection of information unless it displays a valid OMB control number. The valid OMB control number assigned to the collection of information in these final regulations is displayed at the end of the affected sections of the regulations.

List of Subjects in 34 CFR Part 1100

Adult education; Grant programs—education; Reporting and recordkeeping requirements.

The Director amends Title 34 of the Code of Federal Regulations by revising Part 1100 to read as follows:

PART 1100—NATIONAL INSTITUTE FOR LITERACY: LITERACY LEADER FELLOWSHIP PROGRAM

Subpart A—General
Sec.
1100.1 What is the Literacy Leader Fellows Program?
1100.2 Who is eligible for a fellowship?
1100.3 What types of projects may a fellow conduct under this program?
1100.4 What regulations apply?
1100.5 What definitions apply?
1100.6 What priorities may the Director establish?
Subpart B—How Does an Individual Apply for a Fellowship?
1100.10 What categories of fellowships does the Institute award?
1100.11 How does an individual apply for a fellowship?
1100.12 What applications are not evaluated for funding?
Subpart C—How Does the Director Award a Fellowship?
1100.20 How is a fellow selected?
1100.21 What selection criteria does the Director use to rate an applicant?
1100.22 How does the Director determine the amount of a fellowship?
1100.23 What payment methods may the Director use?
1100.24 What are the procedures for payment of a fellowship award directly to the fellow?
1100.25 What are the procedures for payment of a fellowship award through the fellow's employer?
Subpart D—What Conditions Must Be Met by a Fellow?
1100.30 Where may the fellowship project be conducted?
1100.31 Who is responsible for oversight of fellowship activities?
1100.32 What is the duration of a fellowship?
1100.33 What reports are required?

Authority: 20 U.S.C. 1213c(e).

Subpart A—General

§ 1100.1 What is the Literacy Leader Fellowship Program?

(a) Under the Literacy Leader Fellowship Program, the Director of the National Institute for Literacy provides financial assistance to outstanding individuals who are pursuing careers in adult education, adult literacy or the adult components of family literacy, as defined in sections 1202(e)(3) (A), (B), and (C) of the Elementary and Secondary Education Act of 1965, as amended (20 USC 6362(e)(3) (A), (B), and (C)).

(b) Fellowships are awarded to these individuals for the purpose of carrying out short-term, innovative projects that contribute to the knowledge base of the adult education or adult or family literacy field.

(c) Fellowships are intended to benefit the fellow, the Institute, and the national literacy field by providing the fellow with the opportunity to interact with national leaders in the field and make contributions to federal policy initiatives that promote a fully literate adult population.

§ 1100.2 Who is eligible for a fellowship?

(a) Only individuals are eligible to be recipients of fellowships.

(b) To be eligible for a fellowship under this program, an individual must be—

(1) A citizen or national of the United States, or a permanent resident of the United States, or an individual who is in the United States for other than temporary purposes and intends to become a permanent resident;

(2) Eligible for Federal assistance under the terms of 34 CFR 75.60 and 75.61; and

(3) Either an adult or family literacy worker or an adult learner as defined in § 1105.5.

(c) An individual who has received a fellowship award in a prior year is not eligible for another award.

(d) Several individuals may apply jointly for one award, if each individual will contribute significantly to the proposed project and if the proposed project will develop leadership for each individual.

§ 1100.3 What type of project may a fellow conduct under this program?

(a) Under the auspices of the Institute, and in accordance with the Fellowship Agreement, a Literacy Leader Fellow may use a fellowship awarded under this part to engage in research, education, training, technical assistance, or other activities that advance the field of adult education, adult or family literacy, including the training of volunteer literacy providers at the national, State, or local level.

(b) a Literacy Leader Fellow may not use a fellowship awarded under this part for any of the following:

(1) Tuition and fees for continuing the education of the applicant where this is the sole or primary purpose of the project.

(2) Planning and implementing fundraisers

(3) General program operations and administration.

(4) Activities that otherwise do not meet the purposes of the Literacy Leader Fellowship program, as described in paragraph (a) of this section.

§ 1100.4 What regulations apply?

This program is governed by the regulations in this part and the following additional regulations:

34 CFR 74.36, Intangible property;

34 CFR 74.61, Termination

34 CFR 75.60, Individuals ineligible to receive assistance

34 CFR 75.61, Certification of eligibility

34 CFR part 85, Governmentwide Debarment and Suspension (Nonprocurement) and Governmentwide Requirements for Drug-Free Workplace (Grants).

§ 1100.5 What definitions apply?

(a) The definitions in 34 CFR 77.1, except that the definitions of “Applicant”; “Application”, “Award”, and “Project” do not apply to this part.

(b) Other definitions. The following definitions also apply to this part:

Adult learner means an individual over 16 years old who is pursuing or has completed some form of literacy or basic skills training, including preparation for the G.E.D.

Applicant means an individual (or more than one individual, if applying jointly) requesting a fellowship under this program.

Application means a written request for a fellowship under this program.

Award means an amount of funds provided for fellowship activities.

Board means the National Institute for Literacy's Advisory Board established pursuant to section 242(e) of the Workforce Investment Act of 1998 (20 U.S.C. 9252(e)).

Director means the Director of the National Institute for Literacy.

Family literacy, for purposes of the Literacy Leader Fellowship Program, means any of the adult components of family literacy, as defined in sections 1202(e)(3)(A), (B), and (C) of the Elementary and Secondary Education Act of 1965, as amended (20 U.S.C. 6362(e)(3)(A), (B), and (C)), including interactive literacy activities between parents and their children, training for parents regarding how to be the primary teacher for their children and full partners in the education of their children, or parent literacy training that leads to economic self-sufficiency.

Fellow means a recipient of a fellowship.

Fellowship means an award of financial assistance made by the Institute to an individual pursuant to section 242(d) of the Workforce Investment Act of 1998 (20 U.S.C. 9252(d)) to enable that individual to conduct research or other authorized literacy activities under the auspices of the Institute.

Fellowship Agreement means a written agreement entered into between the Institute and a fellow, which, when executed, has the legal effect of obligating the fellowship award, and which states the rights and obligations of the parties.

Institute means the National Institute for Literacy.

Literacy worker means an individual who is pursuing a career in adult literacy or family literacy (as defined above) or a related field and who has a minimum of five years of relevant academic, volunteer or professional experience in the adult literacy, family literacy, adult education, or related field. Relevant experience includes teaching, policymaking, administration, or research.

Project means the work to be engaged in by the fellow during the period of the fellowship.

Research means one or more of the following activities in literacy or education or education related fields: basic and applied research, planning, surveys, assessments, evaluations, investigations, experiments, development and demonstrations.

§ 1100.6 What priorities may the Director establish?

The Director may, through a notice published in the Federal Register, select annually one or more priorities for funding. These priorities may be chosen from the areas of greatest immediate concern to the Institute and may include, but are not limited to, the following areas:

(a) Developing leadership in adult learners. Because adult learners are the true experts on literacy, they are an important resource for the field. Their firsthand experience as “customers” of the literacy system can be invaluable in assisting the field in moving forward, particularly in terms of raising public awareness and understanding about literacy.

(b) Expanding the use of technology in literacy programs. One of the Institute's major projects is the Literacy Information aNd Communication System (LINCS), an Internet-based information system that provides timely information and abundant resources to the literacy community. Keeping the literacy community up to date in the Information Age is vital.

(c) Improving accountability for literacy programs. Literacy programs must develop accountability systems that demonstrate their effectiveness in helping adult learners contribute more fully in the workplace, family and community. There is growing interest in results-oriented literacy practice, especially as related to the Equipped for the Future (EFF) framework.

(d) Raising public awareness about literacy. The Institute is leading a national effort to raise public awareness that literacy is part of the solution to many social concerns, including health, welfare, the economy, and the well-being of children. Projects that enhance this effort will be given priority consideration.

Subpart B—How Does an Individual Apply for a Fellowship?

§ 1100.10 What categories of fellowships does the Institute award?

The Institute awards two categories of Literacy Leadership Fellowships:

(a) Literacy Worker Fellowships; and

(b) Adult Learner Fellowships.

§ 1100.11 How does an individual apply for a fellowship?

An individual shall apply to the Director for a fellowship award in response to an application notice published by the Director in the Federal Register. The application must describe a plan for one or more of the activities stated in § 1100.3 that the applicant proposes to conduct under the fellowship. The application must indicate which category of fellowship, as described in § 1100.10, most accurately describes the applicant. Applicants must also submit for letters for recommendation and certain forms, assurances and certifications, including the certification required under 34 CFR 75.61. For applicants who propose to conduct the fellowship project on a part-time basis while undertaking other paid employment, one of the four required letters of recommendation must be from the applicant's employer, and must include a statement that the applicant's workload will not exceed 100 percent of time. (Approved by the Office of Management and Budget under OMB Control Number 3430-0003, Expiration Date 6/30/2000.)

§ 1100.12 What applications are not evaluated for funding?

The Director does not evaluate an application if—

(a) The applicant is not eligible under § 1100.2;

(b) The applicant does not comply with all of the procedural rules that govern the submission of applications for Literacy Leader Fellowship funds;

(c) The application does not contain the information required by the Institute;

(d) The application proposes a project for which a fellow may not use the fellowship funds, as described in § 1100.3(b).

(e) The application is not submitted by the deadline stated in the application notice.

Subpart C—How Does the Director Award a Fellowship?

§ 1100.20 How is a fellow selected?

(a) The Director selects applications for fellowships on the basis of the selection criteria in § 1100.21 and any priorities that have been published in the Federal Register and are applicable to the selection of applications.

(b)(1) The Director may use experts from the literacy field to rank applications according to the selection criteria in § 1100.21, and then provide the top-ranked applications to the Institute's Advisory Board.

(2) The Institute's Advisory Board evaluates these applications based on the selection criteria in § 1100.21 and makes funding recommendations to the Director.

(3) The Director then determines the number of awards to be made in each fellowship category and the order in which applications will be selected for fellowships, based on the initial rank order, recommendations by the board, and any other information relevant to any of the selection criteria, applicable priorities, or the purposes of the Literacy Leader Fellowship Program, including whether the selection of an application would increase the diversity of fellowship projects under this program.

§ 1100.21 What selection criteria does the Director use to rate an applicant?

The Director uses the following criteria in evaluating each applicant for a fellowship:

(a) Quality of plan. (45 points) The Director uses the following criteria to evaluate the quality of the proposed project:

(1) The proposed project deals with an issue of major concern to the literacy field.

(2) The design of the project is strong and feasible.

(3) The project addresses critical issues in an innovative way.

(4) The plan demonstrates a knowledge of similar programs and an intention, where appropriate, to coordinate with them.

(5) The applicant describes adequate support and resources for the project.

(6) The plan includes evaluation methods to determine the effectiveness of the project.

(7) The project results are likely to contribute to the knowledge base in literacy or adult education, and to federal policy initiatives in these or related areas.

(8) The project will enhance literacy or adult education practice.

(9) The project builds research capacity or improves practice within the field.

(b) Qualifications of applicant. (25 points) The Director uses the following criteria to evaluate the qualifications of the applicant:

(1) The applicant has a strong background in the adult or family literacy field. (Include all relevant experience, which many include experience as a volunteer or an adult learner.)

(2) The applicant has expertise in the proposed area of the project.

(3) The applicant has demonstrated the ability to complete a quality project or has shown leadership in this area.

(4) The applicant provides letters of recommendation that show strong knowledge by others in the literacy field of the applicant's background and past work.

(c) Relevance to the Institute. (10 points) The Director uses the following criteria to evaluate the relevance of the applicant's proposal to the Institute:

(1) The project significantly relates to the purposes and work of the Institute.

(2) The applicant proposes a minimum of four visits to the Institute for quarterly meetings (this may be adjusted according to the number of months to be served in the fellowship) and, if necessary, depending on the nature and scope of the proposed project, to spend an additional portion of the project time at the Institute.

(d) Dissemination plan. (10 points) the Director uses the following criteria to evaluate the quality of the dissemination plan;

(1) The applicant clearly specifies what information will be made available to the field and how this information will further the efforts of the field.

(2) The applicant describes how this information will be shared with the field (e.g., print, on-line, presentations, video, etc.).

(e) Budget. (10 points) The Director uses the following criteria to evaluate the budget:

(1) The budget will adequately support the project.

(2) The costs are clearly related to the objectives of the project.

(3) The budget is cost effective.

(4) The budget narrative clearly describes the budget and how costs are calculated.

§ 1100.22 How does the Director determine the amount of a fellowship?

The amount of the fellowship will not exceed $70,000, and shall consist of—

(a) A stipend, calculated on the basis of either—

(1) The fellow's current annual salary, prorated for the length of the fellowship salary reimbursement; or

(2) If a fellow has no current salary, the fellow's education and experience; and

(b) A subsistence allowance, materials allowance (covering costs of materials and supplies directly related to the completion of the project), and travel expenses (including expenses to attend quarterly meetings in Washington, DC) related to the fellowship and necessary to complete the scope of work outlined in the proposal, consistent with Title 5 U.S.C. chapter 57.

§ 1100.23 What payment methods may the Director use?

(a) Director will pay a fellowship award directly to the fellow or through the fellow's employer. The application should specify if the fellow wishes to be paid directly or through the fellow's employer.

(b) The Director considers the preferences of the fellow in determining whether to pay a fellowship award directly to the fellow or through the fellow's employer; however, the Director pays a fellowship award through the fellow's employer only if the employer enters into an agreement with the Director to comply the provisions of § 1100.25.

§ 1100.24 What are the procedures for payment of a fellowship award directly to the fellow?

(a) If the Director pays fellowship award directly to the fellow after the Director determines the amount of a fellowship award, the fellowship recipient shall submit a payment schedule to the Director for approval. The Director advises the recipient of the approved schedule.

(b) If a fellow does not complete the fellowship, or if the Institute terminates the fellowship, the fellow shall return to the Director a prorated portion of the stipend and any unused subsistence and materials allowance and travel funds at the time and in the manner required by the Director.

§ 1100.25 What are the procedures for payment of a fellowship award through the fellow's employer?

(a) If the Director pays a fellowship award through the fellow's employer, the employer shall submit a payment schedule to the Director for approval.

(b) The employer shall pay the fellow the stipend, subsistence and materials allowance, and travel funds according to the payment schedule approved by the Director. If the fellow does not complete the fellowship, the fellow shall return to the employer a prorated portion of the stipend and any unused subsistence and materials allowance and travel funds. The employer shall return the funds to the Director at the time and in the manner required by the Director. The employer shall also return to the Director any portion of the stipend, subsistence and materials allowance and travel funds not yet paid by the employer to the fellow.

Subpart D—What Conditions Must Be Met by a Fellow?

§ 1100.30 Where may the fellowship project be conducted?

(a) A fellow is encouraged to carry out all, or a portion of, the fellowship project at the Institute. At a minimum, a fellow is required to attend quarterly meetings at the National Institute for Literacy in Washington, D.C. (this may be adjusted according to the number of months served in the fellowship).

(b) Office space and logistics will be provided by the Institute when fellows are in residence at the Institute.

(c) the fellow may also be required to participate in meetings, conferences and other activities at the Departments of Education, Labor, or Health and Human Services, in Washington D.C., or in site visits to other locations, if deemed appropriate for the project being conducted.

§ 1100.31 Who is responsible for oversight of fellowship activities?

(a) All fellowship activities are conducted under the direct or general oversight of the Institute. The Institute may arrange through written agreement for another Federal agency, or another public or private nonprofit agency or organization that is substantially involved in literacy research or services, to assume direct supervision of the fellowship activities.

(b) Fellows may be assigned a peer mentor to orient them to the Federal System and Institute procedures.

§ 1100.32 What is the duration of a fellowship?

(a) The Institute awards fellowships for a period of at least three and not more than 12 months of full-time or part-time activity. Applicants proposing part-time projects must devote at least 60 percent of time to the project. The 60 percent requirement may be waived at the Director's discretion. An award may not exceed 12 months in duration. The actual period of the fellowship will be determined at the time of award based on proposed activities.

(b) In order to continue the fellowship to completion, the fellow must be making satisfactory progress as determined periodically by the Director.

(c) A fellowship may be terminated under the terms of 34 CFR 74.61.

§ 1100.33 What reports are required?

(a) A fellow shall submit fellowship results to the Institute in formats suitable for wide dissemination to policymakers and the public. These formats should include, as appropriate to the topic of the fellowship and the intended audience, articles for academic journals, newspapers, and magazines.

(b) Each fellowship agreement will contain specific provisions for how, when, and in what format the fellow will report on results, and how and to whom the results will be disseminated.

(c) A fellow shall submit a final performance report to the Director no later than 90 days after the completion of the fellowship. The report must contain a description of the activities conducted by the fellow and a thorough analysis of the extent to which, in the opinion of the fellow, the objectives of the project have been achieved. In addition, the report must include a detailed discussion of how the activities performed and results achieved could be used to enhance literacy practice in the United States. (Approved by the Office of Management and Budget under OMB Control Number 3430-0003, Expiration Date 6/30/2000.)

Dated: March 2, 2000.
Carolyn Staley,
Deputy Director, NIFL.

[FR Doc. 00-5521 Filed 3-6-00; 8:45 am]

BILLING CODE 6055-01-M